DEPARTMENT OF DEFENSE

Department of the Army

Availability for Non-Exclusive, Exclusive, or Partially Exclusive Licensing of U.S. Patent Application Concerning Catheter Securing Device and Bite Block

AGENCY: Department of the Army, DOD.

ACTION: Notice.

SUMMARY: In accordance with 37 CFR 404.6 and 404.7, announcement is made of the availability for licensing of U.S. Patent Application No. 09/867,768 entitled “Catheter Securing Device and Bite Block” filed May 31, 2001. Foreign rights are also available. The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A device for securing a catheter with respect to a patient's mouth that preferably includes a balloon that can be inflated within the patient's mouth on the exterior of the catheter, a bite block, and a shield. The balloon preferably immobilizes the catheter with respect to the securing device when inflated while permitting relative movement of the catheter and the securing device when deflated. The balloon preferable also prevents inadvertent withdrawal of the securing device from the patient's mouth when inflated while permitting withdrawal when deflated. The invention preferably includes a method for using such a securing device.

Luz D. Ortiz,
Army Federal Register Liaison Officer.

[FR Doc. 02-11069 Filed 5-2-02; 8:45 am]

BILLING CODE 3710-08-M